DEPARTMENT OF EDUCATION

[CFDA No.: 84.332B]

Comprehensive School Reform Quality Initiatives

AGENCY: Department of Education.

ACTION: Notice inviting applications for new awards for fiscal year (FY) 2002.

Note to Applicants: This notice is a complete application package. Together with the statute authorizing these grants and the Education Department General Administrative Regulations (EDGAR), this notice contains all of the information, application forms, and instructions needed to apply for a grant under the competition. These grants are authorized under section 1608 of the Elementary and Secondary Education Act of 1965 (ESEA), as amended by the No Child Left Behind Act of 2001 (Pub. L. 107-110).

Purpose of the Program: The purpose of the Comprehensive School Reform (CSR) Quality Initiatives program is to support activities in the following categories:

(1) Technical assistance in making informed decisions. To support public and private efforts in which funds are matched by private organizations to assist States, local educational agencies (LEAs), and schools in making informed decisions regarding approving or selecting providers of comprehensive school reform, consistent with the requirements in section 1606(a) of the ESEA, as amended; and

(2) Model development and capacity building. To foster the development of comprehensive school reform models, and to provide effective capacity building for comprehensive school reform providers to expand their work in more schools, assure quality, and promote financial stability.

Eligible Applicants: Public or private organizations that provide educational or related services.

Deadline for Transmittal of Applications: May 5, 2003.

Notification of Intent to Apply for Funding: We will be able to develop a more efficient process for reviewing grant applications if we have a better understanding of the number of entities that intend to apply for funding. Therefore, we strongly encourage each potential applicant to send, by April 7, 2003, a notification of its intent to apply for funding to the following address: irene.harwarth@ed.gov.

The notification of intent to apply for funding is optional and should not include information regarding the proposed application. Eligible applicants that fail to provide the notification may still submit an application by the application deadline.

Estimated Available Funds: Approximately $7 million of fiscal year (FY) 2002 funds. Of this amount, we will award approximately $2 million to support activities under category 1 (i.e., technical assistance in making informed decisions) and approximately $5 million to support activities under category 2 (i.e., model development and capacity building).

Estimated Number of Awards: We anticipate making 1 to 2 awards under each category.

Estimated Range of Awards: $1 million—$2 million annually under category 1 (i.e., technical assistance in making informed decisions); $2.5 million—$5 million annually under category 2 (i.e., model development and capacity building). Funding of continuation awards after the initial year of funding is contingent upon future Congressional appropriations for the program.

Note: These estimates are projections for the guidance of potential applicants. The Department is not bound by any estimates in this notice.

Project Period: Up to 36 months.

Applicable Regulations: The Education Department General Administrative Regulations (EDGAR) in 34 CFR parts 74, 75, 77, 81, 82, 86, 97, 98, and 99.

SUPPLEMENTARY INFORMATION: The State-administered Comprehensive School Reform (CSR) Program and the CSR Quality Initiatives are both authorized under Part F of Title I of the ESEA, as amended. The State-administered CSR program is designed to improve student achievement by supporting the implementation of comprehensive school reforms based on scientifically based research and effective practices so that all children, especially those in low-performing, high-poverty schools, can meet challenging State academic achievement standards. Comprehensive school reform is a systemic approach to schoolwide improvement that incorporates every aspect of a school, including curriculum, instruction, school management, professional development, parental involvement, and assessment plans. The program requires LEAs and schools to draw together individual initiatives that focus on specific areas and weave them into a unified, coherent comprehensive school reform design that integrates the eleven statutory components delineated in section 1606(a) of the ESEA, as amended.

The intent of the CSR Quality Initiatives program is to support activities that will enhance the State-administered CSR program. Under the Quality Initiatives competition, the Secretary will award funds to support activities in two categories—(1) technical assistance in making informed decisions, and (2) model development and capacity building. Grantees under category 1 will assist States, LEAs, and schools in making informed decisions regarding approving or selecting providers of comprehensive school reform, in a manner that meets the requirements of section 1606(a) of the ESEA, as amended. The category 2 awards will encourage, facilitate, and support the development of comprehensive school reform models that schools may integrate into a program that meets the eleven statutory CSR components. These grants will also assist comprehensive school reform providers in building their capacity to expand their work in more schools, assure quality, and promote financial stability.

The category 1 and category 2 awards will be peer reviewed separately on the basis of selection criteria specific to each of the competitions. These selection criteria are included in this Notice. An applicant seeking funding under both categories must submit separate applications addressing the respective criteria for each category.

Absolute Priority for Category 1 Applicants: For category 1 grants (i.e., technical assistance in making informed decisions), the legislation requires that the awards be matched by private organizations. In response to this requirement, the Secretary establishes the following absolute priority under 34 CFR 75.105(c)(3) and will fund under the Category 1 competition only those applicants that meet this priority:

The applicant demonstrates, in its grant application, that its Quality Initiative award will be matched with funds from one or more private organizations. During the first year of the project, the match, excluding any in-kind contributions, must total at least 20 percent of the grantee's initial CSR Quality Initiative award. During any subsequent year of the project, the match, excluding any in-kind contributions, must total at least 25 percent of the grantee's continuation award for that year.

Competitive Preferences for Category 1 Applicants: To help ensure that the activities supported under category 1 (i.e., technical assistance in making informed decisions) of the CSR Quality Initiatives program best address the needs of States, districts and schools, the Secretary establishes the following competitive preferences under 34 CFR 75.105(c)(2). We will award an applicant, in addition to any points that it earns under the selection criteria for the category 1 awards, up to five additional points for addressing each preference (for a total of up to 10 preference points):

Competitive preference (1)—The grantee will provide detailed, high-quality information and technical assistance that will enable States, districts, and schools to select among multiple CSR providers, rather than provide such information or assistance concerning only one provider.

Competitive preference (2)—The grantee will assist urban and rural LEAs and schools in more than one State.

Invitational Priority for Category 1 Applicants: Under the Category 1 Competition, the Secretary is particularly interested in receiving applications from applicants that meet the following invitational priority:

The grantee will focus its efforts on providing States, LEAs, and schools with practical and useful information regarding the evidence of the success and effectiveness of widely-used comprehensive school reform models. The grantee will disseminate the findings of the reviews in a timely manner. Additionally, the grantee will provide direct technical assistance to States, LEAs, and schools in order to facilitate informed decision-making in the selection of models.

Under 34 CFR 75.105(c)(1) the Secretary does not give an application that meets the invitational priority a competitive or absolute preference over other applications.

Invitational Priority for Category 2 Applicants: For the Category 2 Competition there is no absolute priority, or competitive preference. However, the Secretary is particularly interested in applications from applicants that meet the following invitational priority:

The applicant has a demonstrated record of success in fostering the development and sustainability of multiple providers of comprehensive school reform models and services.

Under 34 CFR 75.105(c)(1) the Secretary does not give an application that meets this invitational priority a competitive or absolute preference over other applications.

Selection Criteria: We will use different selection criteria to evaluate the category 1 and category 2 applications.

(I) Selection Criteria for Category 1 Applicants

We will use the following selection criteria and factors from the regulations at 34 CFR 75.210 in evaluating applications for grants under Category 1 “ Technical Assistance in Making Informed Decisions. The maximum score for each criterion is indicated in parenthesis. Within each criterion, we will evaluate each factor equally.

The maximum score for all of the criteria is 100 points. Thus, the maximum score for this competition is 110 points (100 points under the selection criteria and 10 points under the competitive preferences).

(a) Need for Project. (15 points) In determining the need for the proposed project, we consider—

(1) The magnitude of the need for the services to be provided or the activities to be carried out by the proposed project.

(2) The extent to which specific gaps or weaknesses in services, infrastructure, or opportunities have been identified and will be addressed by the proposed project, including the nature and magnitude of those gaps and weaknesses.

(b) Significance. (5 points) In determining the significance of the proposed project, we consider—

(1) The potential contribution of the proposed project to increased knowledge or understanding of educational problems, issues, or effective strategies.

(2) The extent to which the proposed project is likely to build local capacity to provide, improve, or expand services that address the needs of the target population.

(c) Quality of the Project Design. (35 points) In determining the quality of the design of the proposed project, we consider—

(1) The extent to which the design of the proposed project is appropriate to, and will successfully address, the needs of the target population or other identified needs.

(2) The extent to which the design for implementing and evaluating the proposed project will result in information to guide possible replication of project activities or strategies, including information about the effectiveness of the approach or strategies employed by the project.

(3) The extent to which the design of the proposed project reflects up-to-date knowledge from research and effective practice.

(d) Quality of Project Personnel. (30 points) In determining the quality of the personnel who will carry out the proposed project, we consider the extent to which the applicant encourages applications for employment from persons who are members of groups that have traditionally been underrepresented based on race, color, national origin, gender, age, or disability.

In addition, we consider—

(1) The qualifications, including relevant training and experience, of the project director; and

(2) The qualifications, including relevant training and experience, of key project personnel.

(a) Quality of the Project Evaluation. (15 points) In determining the quality of the evaluation of the proposed project, we consider—

(1) The extent to which the methods of evaluation are thorough, feasible, and appropriate to the goals, objectives, and outcomes of the proposed project.

(2) The extent to which the methods of evaluation are appropriate to the context within which the project operates.

(II) Selection Criteria for Category 2 Applicants

We will use the following selection criteria and factors from the regulations at 34 CFR 75.210 in evaluating applications for grants under Category 2—Model Development and Capacity Building. The maximum score for each criterion is indicated in parenthesis. Within each criterion, we will evaluate each factor equally. The maximum score for all of the criteria is 100 points.

(a) Need for the Project. (15 points) In determining the need for the proposed project, we consider the extent to which specific gaps or weaknesses in services, infrastructure, or opportunities have been identified and will be addressed by the proposed project, including the nature and magnitude of those gaps and weaknesses.

(b) Significance. (5 points) In determining the significance of the proposed project, we consider—

(1) The extent to which the proposed project involves the development or demonstration of promising new strategies that build on, or are alternatives to, existing strategies.

(2) The likely utility of the products (such as information, materials, processes, or techniques) that will result from the proposed project, including the potential for their being used effectively in a variety of other settings.

(3) The importance or magnitude of the results or outcomes likely to be attained by the proposed project, especially improvements in teaching and student achievement.

(c) Quality of the Project Design. (35 points) In determining the quality of the design of the proposed project, we consider—

(1) The extent to which the goals, objectives, and outcomes to be achieved by the proposed project are clearly specified and measurable.

(2) The extent to which the proposed project is based upon a scientific research design, and the quality and appropriateness of that design, including the scientific rigor of the studies involved.

(3) The extent to which the design of the proposed project includes a thorough, high-quality review of the relevant literature, a high-quality plan for project implementation, and the use of appropriate methodological tools to ensure successful achievement of project objectives.

(d) Quality of Project Personnel. (30 points) In determining the quality of the personnel who will carry out the proposed project, we consider the extent to which the applicant encourages applications for employment from persons who are members of groups that have traditionally been underrepresented based on race, color, national origin, gender, age, or disability.

In addition, we consider—

(1) The qualifications, including relevant training and experience, of the project director; and

(2) The qualifications, including relevant training and experience, of key project personnel.

(e) Quality of the Project Evaluation. (15 points) In determining the quality of the evaluation of the proposed project, we consider—

(1) The extent to which the methods of evaluation are thorough, feasible, and appropriate to the goals, objectives, and outcomes of the proposed project.

(2) The extent to which the methods of evaluation are appropriate to the context within which the project operates.

(3) The extent to which the methods of evaluation provide for examining the effectiveness of project implementation strategies.

(4) The extent to which the methods of evaluation include the use of objective performance measures that are clearly related to the intended outcomes of the project and will produce quantitative and qualitative data to the extent possible.

Waiver of Proposed Rulemaking: In accordance with the Administrative Procedure Act (5 U.S.C. 553) , it is the practice of the Secretary to offer interested parties the opportunity to comment on proposed rules. Section 437(d)(1) of the General Education Provisions Act (GEPA), however, allows the Secretary to exempt rules governing the first competition under a new or substantially revised program authority (20 U.S.C. 1232(d)(1)). This competition is the first CSR Quality Initiatives competition under section 1608 of the ESEA, as amended by Public Law 107-110, the No Child Left Behind Act of 2001, and therefore qualifies for this exemption. The Secretary, in accordance with section 437(d)(1) of GEPA, has decided to forego public comment in order to ensure timely grant awards. These rules will apply to the FY 2002 grant competition only.

Instructions for Transmittal of Applications

(a) If an applicant wants to apply for a grant, the applicant must—

(1) Mail the original and two copies of the application on or before the deadline date to:

U.S. Department of Education, Application Control Center, Attention: (CFDA No. 84.332B), 7th & D Streets, SW., Room 3633, Regional Office Building 3, Washington, DC 20202-4725, or

(2) Hand deliver the original and two copies of the application by 4:30 p.m. (Washington, DC time) on or before the deadline date to:

U.S. Department of Education, Application Control Center, Attention: (CFDA No. 84.332B), 7th and D Streets, SW., Room 3633, Regional Office Building #3, Washington, DC 20202.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494. (3) The applicant must indicate on the envelope and—if not provided by the Department—in Item 3 of the Application for Federal Assistance (ED 424) the CFDA number—and suffix letter, if any—of the competition under which the application is being submitted.

Application Instructions and Forms

The appendix to this notice contains all required forms and instructions, including instructions for preparing the application narrative, a statement regarding estimated public reporting burden, a notice to applicants regarding compliance with section 427 of the General Education Provisions Act (GEPA), various assurances and certifications, a list of relevant definitions from the authorizing statute and EDGAR, and a checklist for applicants.

To apply for an award under this competition, your application must be organized in the following order and include the following four parts. The parts and additional materials are as follows:

Part I: Application for Federal Assistance (ED 424, Exp. 11/30/2004) and instructions.

Part II: Budget Information-Non-Construction Programs (ED Form No. 524) and instructions. An applicant for a multi-year project must provide a budget narrative that provides budget information for each budget period of the proposed project period.

Part III: Application Narrative.

Part IV: Assurances and Certifications: Assurances—Non—Construction Programs (Standard Form 424B).

b. Certifications Regarding Lobbying; Debarment, Suspension, and Other Responsibility Matters; and Drug-Free Workplace Requirements (ED 80-0013) and instructions.

c. Certifications regarding Debarment, Suspension, Ineligibility and Voluntary Exclusion—Lower Tier Covered Transactions (ED 80-0014, 9/90) and instructions.

Note: ED Form 80-0014 is intended for the use of grantees and should not be transmitted to the Department.

d. Disclosure of Lobbying Activities (Standard Form LLL)(if applicable) and instructions.

An applicant may submit information on photostatic copies of the application, budget forms, assurances, and certifications as printed in this notice in the Federal Register. However, the application form, assurances, and certifications must each have an original signature. All applicants are required to submit ONE original signed application, including ink signatures on all forms and assurances, and TWO copies of the application, one bound and one unbound copy suitable for photocopying. Please mark each application as “original” or “copy”. To aid with the review of applications, the Department encourages applicants to submit two additional paper copies of the application. The Department will not penalize applicants who do not provide additional copies. No grant may be awarded unless a completed application form, including the signed assurances and certifications, has been received.

FOR FURTHER INFORMATION CONTACT: Dr. Irene Harwarth, (202) 401-3751, U.S. Department of Education, OESE/AITQ, FB-6, Room 2W104, 400 Maryland Ave., SW., Washington, DC 20202-6200. The e-mail address for Dr. Harwarth is: irene.harwarth@ed.gov.

Individuals who use a telecommunications device for the deaf (TDD) may call the Federal Information Relay Service (FIRS) at 1-800-877-8339.

Individuals with disabilities may obtain this document in an alternative format (e.g., Braille, large print, audiotape, or computer diskette) on request to the contact person listed.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have any questions about using PDF, call the U.S. Government Printing Office (GPO) at (202) 512-1530 or, toll free, at 1-888-293-6498.

Note: The official version of this document is the document published in the Federal Register. Free Internet access to the official edition of the Federal Register and the Code of Federal Regulations is available on GPO Access at: http://www.access.gpo.gov/nara/index.html.

Program Authority: 20 U.S.C. 6518.

Dated: March 18, 2003.
Eugene W. Hickok,
Under Secretary of Education.

Appendix

Instructions for the Application Narrative

The narrative is the section of the application where the selection criteria used by reviewers in evaluating the application are addressed. The narrative must encompass each function or activity for which funds are being requested. Before preparing the application narrative, an applicant should read carefully the description of the program and the selection criteria the Secretary uses to evaluate applications.

Applicants should note there is a suggested 30-page limit for the application narrative with the following standards applying: (1) A “page” is 8.5″ × 11″ (one side only) with one-inch margins (top, bottom, and sides). (2) All text in the application narrative must be double-spaced. The suggested page limit does not apply to the cover sheet, the one-page abstract, budget section, appendices, and forms and assurances. However, all of the application narrative must be included in the narrative section.

1. Begin with a one-page Abstract summarizing the project, including a description of project objectives and activities and any partners in the application.

2. Include a table of contents listing the parts of the narrative in the order of the selection criteria and the page numbers where the parts of the narrative are found. Be sure to number the pages.

3. Describe how the applicant meets the absolute priority (if applicable).

4. Describe how the applicant meets the competitive priority (if applicable).

5. Describe fully the proposed project in light of the selection criteria in the order in which the criteria are listed in the application package. Do not simply paraphrase the criteria.

6. Provide the following in response to the attached “Notice to all Applicants'': (1) A reference to the portion of the application in which information appears as to how the applicant is addressing steps to promote equitable access and participation, or (2) a separate statement that contains this information.

7. When applying for funds as a consortium, individual eligible applicants must enter into an agreement signed by all members. The consortium's agreement must detail the activities each member of the consortium plans to perform, and must bind each member to every statement and assurance made in the consortium's application. The designated applicant must submit the consortium's agreement with its application.

8. Applicants may include supporting documentation as appendices to the narrative. This material should be concise and pertinent to the competition. Note that the Secretary considers only information contained in the application in ranking applications for funding consideration. Letters of support sent separately from the formal application package are not considered in the review by the technical review panels. (34 CFR 75.217)

9. Attach copies of all required assurances and forms.

Estimated Public Reporting Burden

According to the Paperwork Reduction Act of 1995, no persons are required to respond to a collection of information unless it displays a valid OMB Control Number. The valid OMB control number for this information collection is 1890-0009 (Expiration Date: 06/30/2005.) The time required to complete this information collection is estimated to average 80 hours per response, including the time to review instructions, search existing data resources, gather the data needed, and complete and review the information collection.

Checklist for Applicants

The following forms and other items must be included in the application in the order listed below:

1. Application for Federal Assistance (ED 424).

2. Budget Information—Non-Construction Programs ED Form No. 524) and budget narrative.

3. Application Narrative, including information that addresses section 427 of the General Education Provisions Act (see the section entitled “Notice to all Applicants”), and relevant appendices.

4. Consortia agreement, if applicable.

5. Assurances—Non-Construction Programs (SF 424B).

6. Certifications Regarding Lobbying; Debarment, Suspension, and Other Responsibility Matters; and Drug-Free Workplace Requirements (ED 80-0013).

7. Disclosure of Lobbying Activities (Standard Form LLL) (if applicable).

BILLING CODE 4000-01-P

[FR Doc. 03-6859 Filed 3-20-03; 8:45 am]

BILLING CODE 4000-01-C